DEPARTMENT OF COMMERCE

Foreign-Trade Zones Board

[Order No. 2104]

Restricted Approval for Production Authority/Foreign-Trade Zone 12/Black & Decker (U.S.), Inc. (Lithium Ion Battery Assembly for Cordless Power Tools)/Mission, Texas

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the McAllen Foreign Trade Zone Inc., grantee of Foreign-Trade Zone 12, has requested production authority on behalf of Black & Decker (U.S.), Inc. (Black & Decker), within FTZ 12 in Mission, Texas, (B-68-2019, docketed October 25, 2019);

Whereas, notice inviting public comment has been given in the Federal Register (84 FR 59352, November 4, 2019) and the application has been processed pursuant to the FTZ Act and the Board's regulations; and,

Whereas, the Board adopts the findings and recommendations of the examiner's report, and finds that the requirements of the FTZ Act and the Board's regulations would be satisfied and that the proposal would be in the public interest, if subject to the restriction listed below;

Now, therefore, the Board hereby orders:

The application for production authority under zone procedures within FTZ 12 on behalf of Black & Decker, as described in the application and Federal Register notice, is approved, subject to the FTZ Act and the Board's regulations, including Section 400.13, and further subject to the following restriction: The authority shall remain in effect for a period of five years from the date of approval by the Board.

Dated: July 26, 2020.
Jeffrey I. Kessler,
Assistant Secretary for Enforcement and Compliance, Alternate Chairman, Foreign-Trade Zones Board.

[FR Doc. 2020-16889 Filed 8-3-20; 8:45 am]

BILLING CODE 3510-DS-P